FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011928-007.

Title: Maersk Line/HLAG Slot Charter Agreement.

Parties: A.P. Moller-Maersk A/S and Hapag-Lloyd AG.

Filing Party: Wayne Rohde, Esq., Cozen O'Connor, 1627 I Street NW., Suite 1100, Washington, DC 20006.

Synopsis: The Amendment would revise language in the agreement to reflect changes in the amount of space being chartered.

Agreement No.: 012034-005.

Title: Hamburg Sud/Maersk Line Vessel Sharing Agreement.

Parties: Hamburg-Sud and A.P. Moller-Maersk A/S.

Filing Party: Wayne Rohde, Esq., Cozen O'Connor, 1627 I Street NW., Suite 1100, Washington, DC 20006.

Synopsis: The Amendment would revise the description of the vessels deployed under the agreement, make changes to the space allocations of the parties, and revise language to include an agreement recently concluded by one of the parties.

Agreement No.: 201222.

Title: Port of Seattle/Port of Tacoma Discussion Agreement.

Parties: Port of Seattle and Port of Tacoma.

Filing Party: Thomas H. Tanaka, Senior Port Counsel, Port of Seattle, 2711 Alaskan Way, Seattle, WA 98121; and Carolyn Lake, Port General Legal Counsel, Port of Tacoma, 501 South G Street, Tacoma, WA 98405.

Synopsis: The Agreement would authorize the parties to discuss, collect and share information on all matters concerning the operation of container terminal facilities at the Ports.

By Order of the Federal Maritime Commission.
Dated: January 24, 2014.
Karen V. Gregory,
Secretary.

[FR Doc. 2014-01735 Filed 1-28-14; 8:45 am]

BILLING CODE 6730-01-P